Proclamation 9521 of October 7, 2016

General Pulaski Memorial Day, 2016

By the President of the United States of America

A Proclamation

Over two centuries ago, Polish immigrant Casimir Pulaski crossed an ocean to take up the cause of defending a young nation. Rising quickly to the rank of Brigadier General in the Continental Army, he reformed our cavalry, saved the life of General George Washington, and helped secure our independence. Today, we celebrate the legacy of liberty he forged and reflect on the many ways Polish-American voices continue to shape the unending story of our Nation.

Spending his formative years in Poland laboring for his home country's independence, General Pulaski came to America with both an expertise in combat and a passion for liberty that made him invaluable to our new Nation's fight for freedom. Leading a legion of men on horseback and working alongside General Washington, General Pulaski achieved victory after victory. But he would never see the results of his valiant efforts fully realized—he succumbed to battle injuries on October 11, 1779, giving his final full measure of devotion in defense of the ideals we cherish.

More than 200 years later, Polish Americans across our country honor the spirit of General Pulaski through their many contributions to our Nation and through living the values that unite us all. The proud members of the Polish-American community strengthen the rich heritage of our country—many serve in our Armed Forces, protecting the very freedoms General Pulaski helped secure centuries before—and they reflect the strong friendship that endures today between the United States and Poland.

On General Pulaski Memorial Day, we commemorate one of our Nation's earliest embodiments of the belief that no matter who you are or where you come from, those who love this country can change it for the better. In honor of General Pulaski's sacrifice and the important role Polish Americans play in our country, let us rededicate ourselves to defending our founding ideal of liberty for all.

NOW, THEREFORE, I, BARACK OBAMA, President of the United States of America, by virtue of the authority vested in me by the Constitution and the laws of the United States, do hereby proclaim October 11, 2016, as General Pulaski Memorial Day. I encourage all Americans to commemorate this occasion with appropriate programs and activities paying tribute to Casimir Pulaski and honoring all those who defend the freedom of our Nation.

IN WITNESS WHEREOF, I have hereunto set my hand this seventh day of October, in the year of our Lord two thousand sixteen, and of the Independence of the United States of America the two hundred and forty-first.

[FR Doc. 2016-24997

Filed 10-12-16; 11:15 am]

Billing code 3295-F7-P